FEDERAL COMMUNICATIONS COMMISSION

Sunshine Act Meeting; Open Commission Meeting; Tuesday, August 9, 2011

Date: August 2, 2011.

The Federal Communications Commission will hold an Open Meeting on the subjects listed below on Tuesday, August 9, 2011, which is scheduled to commence at 10:30 a.m. in Room TW-C305, at 445 12th Street, SW., Washington, DC.

The meeting will include a presentation of the 2011 Excellence in Economics and Excellence in Engineering awards.

Item Nos. | Bureau | Subject
1 | Wireless Telecommunications Bureau | Title: Amendment of Part 101 of the Commission's Rules To Facilitate the Use of Microwave for Wireless Backhaul and Other Uses and To Provide Additional Flexibility to Broadcast Auxiliary Service and Operational Fixed Microwave Licensees (WT Docket No. 10-153), and Petition for Rulemaking filed by Fixed Wireless Communications Coalition To Amend Part 101 of the Commission's Rules to Authorize 60 and 80 MHz Channels in Certain Bands for Broadband Communications (RM-11602).
|  | Summary: The Commission will consider as part of its Broadband Acceleration Initiative a Report and Order, Further Notice of Proposed Rulemaking, and Memorandum Opinion and Order addressing several proposals to remove regulatory barriers to the full and effective use of certain spectrum bands for wireless backhaul to promote broadband deployment. The item also addresses other ways to make additional spectrum available for wireless backhaul.
2 | International | Title: Review of Foreign Ownership Policies for Common Carrier and Aeronautical Radio Licensees under Section 310(b)(4) of the Communications Act of 1964, as Amended.
|  | Summary: As part of the regulatory reform efforts, the Commission will consider a Notice of Proposed Rulemaking to reduce regulatory burdens and streamline the review process for foreign ownership of common carrier radio licensees (e.g., wireless phone companies) and certain aeronautical radio licensees under section 310(b)(4) of the Communications Act, while ensuring the Commission continues to receive the information it needs to serve the public interest. This item does not address issues related to foreign ownership of broadcast licensees.
3 | International | Title: Applications of Cellco Partnership d/b/a Verizon Wireless and Rural Cellular Corporation for Consent to Transfer Control of Licenses, Authorizations, and Spectrum Manager Leases, and Petitions for Declaratory Ruling that the Transaction is Consistent with Section 310(b)(4) of the Communications Act (WT Docket No. 07-208), and Applications of Cellco Partnership d/b/a Verizon Wireless and Atlantis Holdings LLC for Consent to Transfer Control of Licenses, Authorizations, and Spectrum Manager and De Facto Transfer Leasing Arrangements, and Petition for Declaratory Ruling that the Transaction is Consistent with Section 310(b)(4) of the Communications Act (WT Docket No. 08-95).
|  | Summary: As part of its efforts to provide greater clarity regarding foreign ownership review procedures, the Commission will consider an Order on Reconsideration addressing two section 310(b)(4) foreign ownership rulings granted to Verizon Wireless in two proceedings approving its acquisitions of Rural Cellular Corporation (RCC) and Alltel Corporation (Alltel).

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live Web page at http://www.fcc.gov/live.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Bulah P. Wheeler,
Deputy Manager, Office of the Secretary, Office of Managing Director.

[FR Doc. 2011-20006 Filed 8-3-11; 4:15 pm]

BILLING CODE 6712-01-P